DEPARTMENT OF DEFENSE

Office of the Secretary

Notice of Funding Availability for Advance Planning Grants—Request for Grant Proposals

AGENCY: Office of Economic Adjustment, DoD.

ACTION: Notice.

Announcement type: New.

Catalog of Federal Domestic Assistance (CFDA) Number: 12.614 Community Economic Adjustment Assistance for Advance Planning.

Key Dates: Proposals will be accepted and processed as received on a continuing basis commencing June 17, 2004.

Executive Summary: The Office of Economic Adjustment (OEA) is authorized by Section 2391(b)(5) of Title 10, United States Code, to award planning assistance in the form of Advance Planning Grants to State, regional governmental organizations or local governments whose economic activity or population is dependent on Defense expenditures. Receipt of such planning assistance cannot prejudice a community in the Defense Base Closure and Realignment process because Section 2903(c)(3)(B) of the Defense Base Closure and Realignment Act of 1990, Public Law 101-510, provides that “in considering military installations for closure or realignment, the Secretary may not take into account for any purpose any advance planning undertaken by an affected community with respect to anticipated closure or realignment of an installation.” Assistance provided under this notice supports planning activities for community adjustment and economic diversification in response to local economic dependency on military, Department of Defense (DoD) civilian, or defense industry expenditures and can be used to support the preparation of: Diversification plans to lessen local economic dependency on Defense expenditures; local plans for organizing a community in response to a base closure or realignment; and/or preliminary strategies and schematic plans for the potential reuse or redevelopment of existing bases. Assistance may be provided to States, regional governmental organizations or local governments, or States on behalf of local governments that demonstrate this economic dependency. A local match of at least 10 percent of the total project cost will be required for awards under this notice.

I. Funding Opportunity Description

OEA is a DoD Field Activity authorized to make grants to assist State, regional governmental organizations or local governments in planning community adjustments and economic diversification if a substantial portion of the economic activity or population of a geographic area is dependent on Defense expenditures. Assistance provided under this notice supports planning activities for community adjustment and economic diversification in response to local economic dependency on military, DoD civilian, or defense industry expenditures, and can be used to support the preparation of: diversification plans to lessen local economic dependency on Defense expenditures; local plans for organizing a community in response to a base closure or realignment; and preliminary strategies and schematic plans for the potential reuse or redevelopment of existing bases. States, regional governmental organizations and local governments, or States on behalf of local governments are eligible applicants for assistance.

II. Award Information

One Advance planning Grant, up to $175,000, may be awarded per base-related locale under this notice. Applicants shall ensure not less than 10% of the total project costs are derived from non-Federal sources. OEA will notify applicants within 30 days of receipt of a proposal whether their proposal was successful and invite such successful applicants to submit an electronic grant (eGrant) application.

III. Eligibility Information

Eligible applicants are States, regional governmental organizations or local governments, or States on behalf of local governments. States applying on behalf of local governments shall include evidence of support from elected officials of the local government.

Eligible activities include the preparation of: Community economic adjustment or diversification plans in response to a proponent area's dependence on defense spending; contingency plans to organize in the event of a base closure and realignment; and/or initial strategies and schematic plans for the potential reuse or redevelopment of existing bases.

Funds awarded under this notice shall not to be used for direct personnel costs apart from work directly related to the preparation of planning documents, as described above.

Applicants will be asked to certify, and a special condition of awards under this notice is, that any assistance provided under this notice shall not be used to directly or indirectly inform and/or influence deliberations under Public Law 101-510, as amended, of either the Department of Defense (including any of its components) and the Base Realignment and Closure (BRAC) Commission.

Receipt of planning assistance pursuant to this notice cannot prejudice a community in the Defense Base Closure and Realignment process because Section 2903(c)(3)(B) of the Defense Base Closure and Realignment Act of 1990, Public Law 101-510, provides that “in considering military installations for closure or realignment, the Secretary may not take into account for any purpose any advance planning undertaken by an affected community with respect to anticipated closure of realignment of an installation.”

IV. Application and Submission Information

Prospective applicants are advised that proposals will be accepted and processed as received on a continuing basis commencing June 27, 2004.

Each proposal submitted should include a cover or transmittal letter and accompanying text that shall consist of no more than six (6) pages (single-sided) which must include:

• A summary description of the community's defense dependency, including a statement of direct defense employment as a share of regional total employment and as a share of recent annual changes in regional total employment;

• A summary of the need, problem, or issue the project will address;

• A description of how the proponent intends to carry out the work required to resolve the situation identified;

• A proposed budget and accompanying explanation;

• A project schedule for completion of the work; and,

• A local point of contact.

Proposals may be either mailed or hand-delivered to: Director, Office of Economic Adjustment, 400 Army Navy Drive, Suite 200, Arlington, VA 22202-4704, or they can be faxed to the Office of Economic Adjustment at (703) 604-5460.

V. Application Review Information

1. Selection Criteria—Upon validating the level of economic dependence on military, DoD civilian, and defense industry employment, OEA considers each of the following equally balanced factors as a basis for inviting formal grant applications:

• An appropriate and clear project design to address the need, problem, or issue identified;

• The innovative quality of the proposed approach to advance planning, economic adjustment, or economic diversification; and,

• a reasonable proposed budget and schedule for completion of the work program specified.

2. Review and Selection Process—All proposals will be reviewed on their individual merit by a panel of OEA staff, all of whom will be Federal employees. OEA will notify the applicant within thirty (30) days of receipt of a proposal whether their proposal was successful and invite the successful applicant to submit an electronic grant (eGrant) application. The Director, OEA, will assign a Project Manager to advise and assist successful applicants in the preparation of the application. Grant applications will be reviewed for their completeness and accuracy and a grant award notification, to the extent possible, will be issued within seven (7) business days.

VI. Award Administration Information

1. Award Notices—A successful applicant (Grantee) will receive a notice of award in the form of a Grant Agreement, signed by the Director, OEA (Grantor), on behalf of the Department of Defense. The Grant Agreement will be transmitted electronically or, if necessary, by U.S. Mail.

2. Administrative and National Policy Requirements—The Grantee and any consultant/contractor operating under the terms of a grant shall comply with all Federal, State, and local laws applicable to its activities including the following: 32 CFR Part 33, “Uniform Administrative Requirements for Grants and Cooperative Agreements to State and Local Governments”; OMB Circulars A-87, “Cost Principles for State and Local Governments” and the revised A-133, “Audits of States, Local Governments and Non-Profit Organizations”; 32 CFR Part 25, “Government-wide Debarment and Suspension (Non-procurement)”; 32 CFR Part 26, “Drug-free Workplace”; and 32 CFR Part 28, “New Restrictions on Lobbying (Grants).”

3. Reporting—OEA requires quarterly performance reports and one final performance report for any grant. The performance reports will contain information on the following:

• A comparison of actual accomplishments to the objectives established for the period;

• reasons for slippage if established objectives were not met;

• additional pertinent information when appropriate;

• a comparison of actual and projected quarterly expenditures in the grant; and,

• the amount of Federal cash on hand at the beginning and end of the reporting period.

The final performance report must contain a summary of activaities for the entire grant period. All required deliverables should be submitted with the final performance report. The final SF 269A, “Financial Status Report,” must be submitted to OEA within 90 days after the end of the grant. Any grant funds actually advanced and not needed for grant purposes shall be returned imemdiately to OEA.

OEA will provide a schedule for reporting periods and report due dates in the Grant Agreement.

VII. Agency Contacts

For further information, to answer questions, or for help with problems, contact: David Larson, Deputy Director, Office of Economic Development, telephone: (703) 604-4828, fax: (703) 604-5460, e-mail: david.larson@osd.mil or regular mail at 400 Army Navy Drive, Suite 200, Arlington, VA 22202-4704.

VIII. Other Information

The Office of Economic Adjustment Internet address is http://www/oea.gov.

Dated: June 10, 2004.
L.M. Bynum,
Alternate OSD Federal Liaison Officer, Department of Defense.

[FR Doc. 04-13612 Filed 6-16-04; 8:45 am]

BILLING CODE 5001-06-M